DEPARTMENT OF ENERGY

Federal Energy Regulatory Commission

Combined Notice of Filings #1

Take notice that the Commission received the following electric corporate filings:

Docket Numbers: EC17-171-000.

Applicants: Great Plains Energy Incorporated, Westar Energy, Inc.

Description: Joint Application for Authorization of Disposition of Jurisdictional Assets and Merger Pursuant to Section 203 of the FPA of Great Plains Energy Incorporated, et al.

Filed Date: 9/1/17.

Accession Number: 20170901-5183.

Comments Due: 5 p.m. ET 10/31/17.

Docket Numbers: EC17-172-000.

Applicants: Gainesville Renewable Energy Center, LLC.

Description: Application for Authorization of Transaction Under Section 203 of the Federal Power Act, and Requests for Expedited Action and Certain Waivers of Gainesville Renewable Energy Center, LLC.

Filed Date: 9/5/17.

Accession Number: 20170905-5073.

Comments Due: 5 p.m. ET 9/26/17.

Take notice that the Commission received the following electric rate filings:

Docket Numbers: ER17-2425-000.

Applicants: New England Power Pool Participants Committee.

Description: § 205(d) Rate Filing: 131st Agreement to be effective 9/1/2017.

Filed Date: 9/1/17.

Accession Number: 20170901-5222.

Comments Due: 5 p.m. ET 9/22/17.

Docket Numbers: ER17-2426-000.

Applicants: PSEG Keys Energy Center LLC.

Description: Baseline eTariff Filing: PSEG Keys Market Base Rate Tariff to be effective 9/1/2017.

Filed Date: 9/1/17.

Accession Number: 20170901-5226.

Comments Due: 5 p.m. ET 9/22/17.

Docket Numbers: ER17-2427-000.

Applicants: Hudson Energy Services, LLC.

Description: Baseline eTariff Filing: Market-Based Rate Application to be effective 11/6/2017.

Filed Date: 9/5/17.

Accession Number: 20170905-5062.

Comments Due: 5 p.m. ET 9/26/17.

Docket Numbers: ER17-2428-000.

Applicants: Just Energy Pennsylvania Corp.

Description: Baseline eTariff Filing: Market-Based Rate Application to be effective 11/6/2017.

Filed Date: 9/5/17.

Accession Number: 20170905-5063.

Comments Due: 5 p.m. ET 9/26/17.

Docket Numbers: ER17-2429-000.

Applicants: Just Energy Texas I Corp.

Description: Baseline eTariff Filing: Market-Based Rate Application to be effective 11/6/2017.

Filed Date: 9/5/17.

Accession Number: 20170905-5065.

Comments Due: 5 p.m. ET 9/26/17.

Docket Numbers: ER17-2430-000.

Applicants: Alabama Power Company.

Description: Tariff Cancellation: Southern Power (Dahlberg Units 11-14) LGIA Termination Filing to be effective 9/5/2017.

Filed Date: 9/5/17.

Accession Number: 20170905-5069.

Comments Due: 5 p.m. ET 9/26/17.

Docket Numbers: ER17-2431-000.

Applicants: Alabama Power Company.

Description: Tariff Cancellation: Southern Power (Edward L. Addison Unit 5) LGIA Termination Filing to be effective 9/5/2017.

Filed Date: 9/5/17.

Accession Number: 20170905-5070.

Comments Due: 5 p.m. ET 9/26/17.

Docket Numbers: ER17-2432-000.

Applicants: Alabama Power Company.

Description: Tariff Cancellation: Southern Power (Franklin Unit 4) LGIA Termination Filing to be effective 9/5/2017.

Filed Date: 9/5/17.

Accession Number: 20170905-5071.

Comments Due: 5 p.m. ET 9/26/17.

Docket Numbers: ER17-2433-000.

Applicants: PJM Interconnection, L.L.C.

Description: § 205(d) Rate Filing: Amendment to Service Agreement No. 1141, Queue No. AA2-131 to be effective 7/27/2016.

Filed Date: 9/5/17.

Accession Number: 20170905-5083.

Comments Due: 5 p.m. ET 9/26/17.

Docket Numbers: ER17-2434-000.

Applicants: Duke Energy Progress, LLC.

Description: § 205(d) Rate Filing: DEP-NCEMC NITSA and Metering Services Agreement Amendment to be effective 7/1/2017.

Filed Date: 9/5/17.

Accession Number: 20170905-5097.

Comments Due: 5 p.m. ET 9/26/17.

Docket Numbers: ER17-2435-000.

Applicants: PJM Interconnection, L.L.C.

Description: § 205(d) Rate Filing: Second Revised Service Agreement No. 4415, Queue No. Z2-028/AB1-017 to be effective 8/3/2017.

Filed Date: 9/5/17.

Accession Number: 20170905-5098.

Comments Due: 5 p.m. ET 9/26/17.

Docket Numbers: ER17-2436-000.

Applicants: Duke Energy Carolinas, LLC.

Description: § 205(d) Rate Filing: DEC-NCEMC Catawba IA RS No. 273 to be effective 7/1/2017.

Filed Date: 9/5/17.

Accession Number: 20170905-5099.

Comments Due: 5 p.m. ET 9/26/17.

Docket Numbers: ER17-2437-000.

Applicants: Duke Energy Carolinas, LLC.

Description: § 205(d) Rate Filing: DEC-NCEMC PPA RS No. 326 to be effective 7/1/2017.

Filed Date: 9/5/17.

Accession Number: 20170905-5108.

Comments Due: 5 p.m. ET 9/26/17.

Docket Numbers: ER17-2438-000.

Applicants: Duke Energy Progress, LLC.

Description: § 205(d) Rate Filing: DEP-NCEMC PSA RS No. 134 to be effective 7/1/2017.

Filed Date: 9/5/17.

Accession Number: 20170905-5110.

Comments Due: 5 p.m. ET 9/26/17.

Docket Numbers: ER17-2439-000.

Applicants: Duke Energy Progress, LLC.

Description: § 205(d) Rate Filing: DEP-NCEMC PSCA RS No. 182 to be effective 7/1/2017.

Filed Date: 9/5/17.

Accession Number: 20170905-5112.

Comments Due: 5 p.m. ET 9/26/17.

Take notice that the Commission received the following electric securities filings:

Docket Numbers: ES17-54-000.

Applicants: El Paso Electric Company.

Description: Application for FPA Section 204 Authorization of El Paso Electric Company.

Filed Date: 9/1/17.

Accession Number: 20170901-5234.

Comments Due: 5 p.m. ET 9/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2017.
Nathaniel J. Davis, Sr.,
Deputy Secretary.

[FR Doc. 2017-19155 Filed 9-8-17; 8:45 am]

BILLING CODE 6717-01-P